DEPARTMENT OF COMMERCE

National Oceanic and Atmospheric Administration

RIN 0648-XR047

Marine Mammals; File No. 23169

AGENCY: National Marine Fisheries Service (NMFS), National Oceanic and Atmospheric Administration (NOAA), Commerce.

ACTION: Notice; receipt of application.

SUMMARY: Notice is hereby given that Red Rock Films, 625 Sligo Avenue, Silver Spring, MD 20910 (Responsible Party: Brian Armstrong), has applied in due form for a permit to conduct commercial or educational photography on marine mammals.

DATES: Written, telefaxed, or email comments must be received on or before November 25, 2019.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Amy Hapeman, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to film marine mammals in Antarctica to obtain footage for a National Geographic wildlife documentary focusing on social bonds and the complex communications that exist among cetaceans. Up to 150 humpback whales (Megaptera novaeangliae) and 100 killer whales (Orcinus orca) will be targeted over life of permit for filming using vessels, underwater divers, or unmanned aircraft systems. Additional non-target marine mammals may be harassed and filmed if they are prey of killer whales or if opportunistically encountered. These non-target species include up to 10 minke whales (Balaenoptera bonaerensis) and 50 each of Antarctic fur seals (Arctocephalus gazella); crabeater seals (Lobodon carcinophagus), leopard seals (Hydrurga leptonyx), Ross seals (Ommatophoca rossii), southern elephant seals (Mirounga leonina), or Weddell seals (Leptonychotes weddellii) over the life of the permit. The permit would expire on February 28, 2021.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 22, 2019.
Julia Marie Harrison,
Chief, Permits and Conservation Division, Office of Protected Resources, National Marine Fisheries Service.

[FR Doc. 2019-23320 Filed 10-24-19; 8:45 am]

BILLING CODE 3510-22-P